NUCLEAR REGULATORY COMMISSION

10 CFR Part 51

RIN 3150-AI47

[NRC-2008-0404 and NRC-2008-0482]

Consideration of Environmental Impacts of Temporary Storage of Spent Fuel After Cessation of Reactor Operation and Waste Confidence Decision Update: Extension of Comment Period

AGENCY: Nuclear Regulatory Commission.

ACTION: Proposed rule and update and proposed revision of waste confidence decision; Extension of comment period.

SUMMARY: On October 9, 2008, the Nuclear Regulatory Commission (NRC) published for public comment a proposal to amend its generic determination of no significant environmental impact for the temporary storage of spent fuel after cessation of reactor operation codified at 10 CFR 51.23(a) (73 FR 59547) and a related update and proposed revision of its 1990 Waste Confidence Decision (73 FR 59551). The comment period for this proposed rule and for the proposed revisions of its Waste Confidence Decision was to have expired on December 8, 2008. A number of requests for extension of the comment period have been received. The NRC has decided to extend the comment period for an additional 60 days.

DATES: The comment period has been extended and now expires on February 6, 2009. Comments received after this date will be considered if it is practical to do so, but the Commission is able to ensure consideration only for comments received before this date.

ADDRESSES: You may submit comments by any one of the following methods. Comments submitted in writing or in electronic form will be made available for public inspection. Because your comments will not be edited to remove any identifying or contact information, the NRC cautions you against including any information in your submission that you do not want to be publicly disclosed.

Federal e-Rulemaking Portal: Go to http://www.regulations.gov and search for documents filed under Docket ID [NRC-2008-0404] or Docket ID [NRC-2008-0482]. Address questions about NRC dockets to Carol Gallagher 301-415-5905; e-mail Carol.Gallagher@nrc.gov.

Mail comments to: Secretary, U.S. Nuclear Regulatory Commission, Washington, DC 20555-0001, ATTN: Rulemakings and Adjudications Staff.

E-mail comments to: Rulemaking.Comments@nrc.gov. If you do not receive a reply e-mail confirming that we have received your comments, contact us directly at 301-415-1677.

Hand deliver comments to: 11555 Rockville Pike, Rockville, Maryland 20852, between 7:30 a.m. and 4:15 p.m. Federal workdays. (Telephone 301-415-1677).

Fax comments to: Secretary, U.S. Nuclear Regulatory Commission at 301-414-1101.

You can access publicly available documents related to this document using the following methods:

The NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-899-397-4209, 301-415-4737, or by e-mail to pdr.resource@nrc.gov.

FOR FURTHER INFORMATION CONTACT: Neil Jensen, Office of the General Counsel, U.S. Nuclear Regulatory Commission, Washington, DC 20555-0001, telephone 301-415-8480, e-mail, neil.jensen@nrc.gov.

Dated at Rockville, Maryland, this 21st day of November, 2008.
For the Nuclear Regulatory Commission.
Kenneth R. Hart,
Acting Secretary of the Commission.

[FR Doc. E8-28278 Filed 11-26-08; 8:45 am]

BILLING CODE 7590-01-P